DEPARTMENT OF HEALTH AND HUMAN SERVICES

Office of the Secretary

Statement of Organization, Functions, and Delegations of Authority

Part A, Office of the Secretary, Statement of Organization, Functions, and Delegations of Authority for the Department of Health and Human Services is being amended at Chapter AA, Immediate Office of the Secretary, as last amended at 77 FR 23250-23260, dated April 18, 2012, at Chapter AW, Center for Faith-Based and Neighborhood Partnerships, as last amended at 75 FR 37814, dated June 30, 2010, and at Chapter ABC, Office for Intergovernmental Affairs, as last amended at 76 FR 42710-42711, dated July 19, 2011, as follows:

I. Under Chapter AA, Section AA.10 Organization, delete “Center for Faith-Based and Neighborhood Partnerships (AW).”

II. Delete Chapter AW, “Center for Faith-Based and Neighborhood Partnerships,” in its entirety.

III. Under Chapter ABC, “Office of Intergovernmental and External Affairs,” Section ABC.00 Mission, at the end of the first paragraph, insert a new paragraph as follows:

Additionally, the Director of Intergovernmental and External Affairs has primary responsibility to coordinate the Department's efforts to support partnerships between HHS and faith and community-based nonprofit organizations in health care and human services sectors in order to better serve people and communities.

IV. Under Chapter ABC, Section ABC.20 Functions, after the 4th paragraph, insert a new paragraph as follows:

Engages and communicates with the grassroots, ensuring that local institutions that hold community trust have up-to-date information regarding health and human service activities and resources in their area. CFBNP also works to enable community and faith-based organizations to partner with the government through both non-fiduciary and fiduciary partnerships to achieve both HHS' and the President's goals for the Faith-based and Neighborhood Partnership Initiative, which include: strengthening the role of community organizations in the economic recovery and poverty reduction; reducing unintended pregnancies and supporting maternal and child health; promoting responsible fatherhood and healthy families; and fostering interfaith dialogue and collaboration with leaders and scholars around the world and at home.

Dated: September 19, 2014.
Sylvia M. Burwell,
Secretary.

[FR Doc. 2014-22813 Filed 9-24-14; 8:45 am]

BILLING CODE 4150-04-P